DEPARTMENT OF AGRICULTURE

Forest Service

Tehama County Resource Advisory Committee; Meeting

AGENCY: Forest Service, USDA.

ACTION: Notice of meeting.

SUMMARY: The Tehama County Resource Advisory Committee (RAC) will meet in Red Bluff, California. Agenda items to be covered include: (1) Introductions; (2) approval of minutes; (3) public comment; (4) Chairman's perspective; (5) project presentations; (6) next agenda.

DATES: The meeting will be held on June 24, 2010 from 9 a.m. and end at approximately 12 p.m.

ADDRESSES: The meeting will be held at the Tehama County Farm Bureau, 275 Sale Lane, Red Bluff, CA. Individuals wishing to speak or propose agenda items must send their names and proposals to Randy Jero, Committee Coordinator, 825 N. Humboldt Ave., Willows, CA 95988.

FOR FURTHER INFORMATION CONTACT: Randy Jero, Committee Coordinator, USDA, Mendocino National Forest, Grindstone Ranger District, 825 N. Humboldt Ave., Willows, CA 95988. (530) 934-1269; E-mail: rjero@fs.fed.us.

SUPPLEMENTARY INFORMATION: The meeting is open to the public. Committee discussion is limited to Forest Service staff and Committee members. However, persons who wish to bring matters to the attention of the Committee may file written statements with the Committee staff before or after the meeting. Public input sessions will be provided and individuals who made written requests by June 21, 2010 will have the opportunity to address the committee at those sessions.

Dated: June 3, 2010.
Eduardo Olmedo,
Designated Federal Official.

[FR Doc. 2010-14066 Filed 6-11-10; 8:45 am]

BILLING CODE 3410-11-M